DEPARTMENT OF COMMERCE

National Oceanic and Atmospheric Administration

50 CFR Part 679

[Docket No. 031126295-3295-01; I.D. 012904C]

Fisheries of the Exclusive Economic Zone Off Alaska; Atka Mackerel in the Bering Sea and Aleutian Islands

AGENCY: National Marine Fisheries Service (NMFS), National Oceanic and Atmospheric Administration (NOAA), Commerce.

ACTION: Rescission and revision of a closure.

SUMMARY: The National Marine Fisheries Service (NMFS) is rescinding a February 2, 2004, closure announced previously for the first directed fishery for Atka mackerel within the harvest limit area (HLA) in Statistical Area 543 of the Bering Sea and Aleutian Islands management area (BSAI), and is establishing a revised date for the closure at 12 noon, A.l.t., January 30, 2004. This action is necessary to prevent exceeding the interim 2004 Atka mackerel HLA limit established for area 543 pursuant to the interim 2004 Atka mackerel total allowable catch (TAC). The closure date for the first directed fishery in the HLA in area 542, effective 1200 hrs, A.l.t., February 2, 2004, and the opening and closures dates of the second directed fisheries in the HLA in area 542 and area 543 effective, 1200 hrs, A.l.t., February 4, 2004, until 1200 hrs, A.l.t., February 13, 2004, remain unchanged.

DATES: The first directed fishery for Atka mackerel in the HLA in area 543 closes 1200 hrs, A.l.t., January 30, 2004.

FOR FURTHER INFORMATION CONTACT: Mary Furuness, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(8)(iii), vessels using trawl gear for directed fishing for Atka mackerel previously registered with NMFS to fish in the HLA fisheries in areas 542 and/or 543. NMFS randomly assigned each vessel to the directed fishery or fisheries for which they have registered. NMFS notified each vessel owner as to which fishery each vessel has been assigned (69 FR 2849, January 21, 2004).

In accordance with § 679.20(a)(8)(ii)(C)(1) and as established by the Interim 2004 Harvest Specifications for Groundfish (68 FR 68,265, December 8, 2003), the HLA limit of the interim TAC in area 543 is 5,097 metric tons (mt). Based on this limit and the proportion of the number of vessels in each fishery compared to the total number of vessels participating in the HLA directed fishery for area 543, the harvest limit for the first HLA directed fishery in area 543 is 2,549 mt. In accordance with § 679.20(a)(8)(iii)(E), the Regional Administrator is rescinding the February 2, 2004, closure announced previously for this fishery (69 FR 2850, January 21, 2004), and is establishing a revised time and date for the closure of the first directed fishery for Atka Mackerel within the HLA in Statistical Area 543 of the BSAI as 12 noon, A.l.t., January 30, 2004, based on the amount of the harvest limit and the estimated fishing capacity of the vessels assigned to the fisheries.

Classification

This action responds to the best available information recently obtained from the fishery. The Assistant Administrator for Fisheries, NOAA, (AA), finds good cause to waive the requirement to provide prior notice and opportunity for public comment pursuant to the authority set forth at 5 U.S.C. 553(b)(B) as such requirement is impracticable and contrary to the public interest. This requirement is impracticable and contrary to the public interest as it would prevent the Agency from responding to the most recent fisheries data in a timely fashion, would delay the closure of the fishery under the interim 2004 Atka mackerel HLA limit established for area 543 of the BSAI and would prevent the Agency from ensuring that the 2004 Atka mackerel HLA limit established for area 543 not be exceeded.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: January 30, 2004.
Bruce C. Morehead,
Acting Director, Office of Sustainable Fisheries, National Marine Fisheries Service.

[FR Doc. 04-2292 Filed 1-30-04; 3:30 pm]

BILLING CODE 3510-22-S